OFFICE OF SCIENCE AND TECHNOLOGY POLICY

National Science and Technology Council, Committee on Technology Capstone Workshop Risk Management Methods & Ethical, Legal, and Societal Implications of Nanotechnology: Public Meeting

ACTION: Notice of public meeting.

SUMMARY: The National Nanotechnology Coordination Office (NNCO), on behalf of the Nanoscale Science, Engineering, and Technology (NSET) Subcommittee of the Committee on Technology, National Science and Technology Council (NSTC), will hold a workshop on March 30-31, 2010, to provide an open forum to discuss the state-of-the-art of the science related to environmental, health, and safety aspects of nanomaterials in two areas: Risk Management Methods and Ethical, Legal, and Societal Implications (ELSI) of Nanotechnology. Risk Management Methods is one of the five environmental, health, and safety research categories identified in the NSET Subcommittee document Strategy for Nanotechnology-Related Environmental, Health, and Safety Research (http://www.nano.gov/NNI_EHS_Research_Strategy.pdf), which was released February 14, 2008.

DATES: The public meeting will be held on Tuesday, March 30, 2010 from 8 a.m. until 5 p.m. and on Wednesday, March 31, 2010 from 8 a.m. until 4 p.m.

ADDRESSES: The public meeting will be held at the Holiday Inn Rosslyn-Key Bridge, 1900 N. Fort Myer Drive, Arlington, VA 22209 (Metro stop: Rosslyn on the Orange and Blue lines). For directions, please see http://www.holidayinn.com.

Registration: Due to space limitations, pre-registration for the workshop is required. People interested in attending the workshop should register online at http://www.nano.gov/html/meetings/capstone/register.html. Written notices of participation by e-mail should be sent to capstone@nnco.nano.gov.

Written notices may be mailed to the Capstone Workshop, c/o NNCO, 4201 Wilson Blvd., Stafford II, Suite 405, Arlington, VA 22230. Registration is on a first-come, first-served basis until the location space limits are reached. Otherwise registration will close on March 25, 2010 at 4 p.m. EDT.

Those interested in presenting 3-5 minutes of public comments at the meeting should also register at http://www.nano.gov/html/meetings/capstone/register.html. Written or electronic comments should be submitted by e-mail to capstone@nnco.nano.gov until April 30, 2010.

Information about the meeting, including the agenda, is posted at http://www.nano.gov.

The main sessions will be Webcast. Please see http://www.nano.gov for more information.

FOR FURTHER INFORMATION CONTACT: For information regarding this Notice, please contact Diana Petreski, telephone (703) 292-8626 or Liesl Heeter, telephone (703) 292-4533, National Nanotechnology Coordination Office. E-mail: capstone@nnco.nano.gov.

M. David Hodge,
Operations Manager.

[FR Doc. 2010-4037 Filed 2-25-10; 8:45 am]

BILLING CODE P